DEPARTMENT OF ENERGY

Federal Energy Regulatory Commission

[Docket No. CP09-161-002]

Bison Pipeline LLC; Notice of Application

August 16, 2010.

Take notice that on August 12, 2010, Bison Pipeline LLC (Bison), 717 Texas Street, Suite 2400, Houston, Texas 77002, filed in the above referenced docket an application under section 7 of the Natural Gas Act and Part 157 of the Commission's regulations to amend the certificate of public convenience and necessity authorizing the construction and operation of the Bison Pipeline Project (Bison Pipeline) issued to Bison, subject to conditions, on April 9, 2010 (Order).¹ Specifically, Bison seeks authorization to amend the certificate of public convenience and necessity (Certificate) in order to construct the Project in two phases; first to meet the service requirements of the existing service agreements and second, to coincide with the marketing of all or a substantive part of the remaining pipeline capacity within the timing prescribed by the Order, and in so doing amend the initial rates for transportation service approved in the Order. During the first phase, Bison would construct the mainline facilities consisting of 302 miles of 30-inch diameter pipeline and two meter stations and related appurtenances as authorized in the Order (Phase 1). During the second phase, Bison plans to construct the Hettinger Compressor Station located in Hettinger County, North Dakota as authorized in the Order (Phase 2). Therefore, the construction and in-service date of the Hettinger Compressor Station would be delayed until no later than the deadline for construction set forth in Paragraph (D) of the Order, all as more fully set forth in the application which is on file with the Commission and open to public inspection. The filing is available for review at the Commission in the Public Reference Room or may be viewed on the Commission's Web site Web at http://www.ferc.gov using the “eLibrary” link. Enter the docket number excluding the last three digits in the docket number field to access the document. For assistance, contact FERC at FERCOnlineSupport@ferc.gov or call toll-free, (886) 208-3676 or TTY, (202) 502-8659.

¹ Bison Pipeline, LLC, 131 FERC ¶61,013 (2010).

Any questions regarding the application are to be directed to Robert Jackson, Director, Certificates and Regulatory Administration, Bison Pipeline LLC, 717 Texas Street, Houston, Texas 77002, phone (832) 320-5487.

There are two ways to become involved in the Commission's review of this project. First, any person wishing to obtain legal status by becoming a party to the proceedings for this project should, on or before the comment date stated below file with the Federal Energy Regulatory Commission, 888 First Street, NE., Washington, DC 20426, a motion to intervene in accordance with the requirements of the Commission's Rules of Practice and Procedure (18 CFR 385.214 or 385.211) and the Regulations under the NGA (18 CFR 157.10). A person obtaining party status will be placed on the service list maintained by the Secretary of the Commission and will receive copies of all documents filed by the applicant and by all other parties. A party must submit seven copies of filings made in the proceeding with the Commission and must mail a copy to the applicant and to every other party. Only parties to the proceeding can ask for court review of Commission orders in the proceeding.

However, a person does not have to intervene in order to have comments considered. The second way to participate is by filing with the Secretary of the Commission, as soon as possible, an original and two copies of comments in support of or in opposition to this project. The Commission will consider these comments in determining the appropriate action to be taken, but the filing of a comment alone will not serve to make the filer a party to the proceeding. The Commission's rules require that persons filing comments in opposition to the project provide copies of their protests only to the party or parties directly involved in the protest.

Persons who wish to comment only on the environmental review of this project should submit an original and two copies of their comments to the Secretary of the Commission. Environmental commentors will be placed on the Commission's environmental mailing list, will receive copies of the environmental documents, and will be notified of meetings associated with the Commission's environmental review process. Environmental commentors will not be required to serve copies of filed documents on all other parties. However, the non-party commentors will not receive copies of all documents filed by other parties or issued by the Commission (except for the mailing of environmental documents issued by the Commission) and will not have the right to seek court review of the Commission's final order.

The Commission strongly encourages electronic filings of comments, protests and interventions in lieu of paper using the “eFiling” link at http://www.ferc.gov. Persons unable to file electronically should submit an original and 7 copies of the protest or intervention to the Federal Energy regulatory Commission, 888 First Street, NE., Washington, DC 20426.

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Comment Date: August 30, 2010.

Kimberly D. Bose,
Secretary.

[FR Doc. 2010-20929 Filed 8-23-10; 8:45 am]

BILLING CODE 6717-01-P